TENNESSEE VALLEY AUTHORITY

Meeting of the Regional Energy Resource Council

AGENCY: Tennessee Valley Authority (TVA).

ACTION: Notice of meeting.

SUMMARY: The TVA Regional Energy Resource Council (RERC) will hold a meeting on Tuesday, June 16 and Wednesday, June 17, 2015, regarding regional energy related issues in the Tennessee Valley.

The RERC was established to advise TVA on its energy resource activities and the priorities among competing objectives and values. Notice of this meeting is given under the Federal Advisory Committee Act (FACA), 5 U.S.C. App. 2.

The meeting agenda includes the following:

1. Welcome and Introductions

2. Recap of April 2015 meeting

3. TVA's Integrated Resource Plan: Review of the public comments received, findings and recommendations, and next steps

4. Public Comments

5. Council discussion and advice

The RERC will hear opinions and views of citizens by providing a public comment session starting at 8:45 a.m. EDT on Wednesday, June 17. Persons wishing to speak are requested to register at the door by 8:15 a.m. EDT on Wednesday, June 17 and will be called on during the public comment period. Handout materials should be limited to one printed page. Written comments are also invited and may be mailed to the Regional Energy Resource Council, Tennessee Valley Authority, 400 West Summit Hill Drive, WT-9D, Knoxville, Tennessee 37902.

DATES: The meeting will be held on Tuesday, June 16, 2015, from 1:00 p.m. to 4:45 p.m. and Wednesday, June 17, 2015, from 8:30 a.m. to 11:45 a.m. EDT.

ADDRESSES: The meeting will be held at the Tennessee Valley Authority, 400 West Summit Hill Drive, Knoxville, TN 37902, and will be open to the public. Anyone needing special access or accommodations should let the contact below know at least a week in advance.

FOR FURTHER INFORMATION CONTACT: Beth Keel, 400 West Summit Hill Drive, WT-9D, Knoxville, Tennessee 37902, (865) 632-6113.

Dated: May 18, 2015.
Joseph J. Hoagland,
Vice President, Stakeholder Relations, Tennessee Valley Authority.

[FR Doc. 2015-12642 Filed 5-22-15; 8:45 am]

BILLING CODE 8120-08-P